DEPARTMENT OF THE INTERIOR

Bureau of Indian Affairs

25 CFR Chapter 1

Meeting of the No Child Left Behind Negotiated Rulemaking Committee

AGENCY: Bureau of Indian Affairs, Interior.

ACTION: Announcement of negotiated rulemaking committee meeting.

SUMMARY: The Secretary of the Interior has established an advisory Committee to develop recommendations for proposed rules for Indian education under six sections of the No Child Left Behind Act of 2001. As required by the Federal Advisory Committee Act, we are announcing the date and location of the next meeting of the No Child Left Behind Negotiated Rulemaking Committee. The purpose of the meeting is the review of public comments that we received on the Notice of Proposed Rulemaking published February 25, 2004, in the Federal Register.

DATES: The Committee's next meeting will be held August 10-13, 2004, in Albuquerque, New Mexico. The meeting will begin at 8:30 p.m. (m.s.t.) on Tuesday, August 10 and end at 5 p.m. (m.s.t.) on Friday, August 13, 2004.

ADDRESSES: The meeting will be held at the Sheraton Old Town, 800 Rio Grande Blvd, Albuquerque, New Mexico 87104, (505) 843-6300.

FOR FURTHER INFORMATION CONTACT: Shawna Smith, No Child Left Behind Negotiated Rulemaking Project Management Office, P.O. Box 1430, Albuquerque, NM 87103-1430; telephone (505) 248-7241/6569; fax (505) 248-7242; e-mail ssmith@bia.edu. We will post additional information as it becomes available on the Office of Indian Education Programs Web site under “Negotiated Rulemaking” at http://www.oiep.bia.edu.

SUPPLEMENTARY INFORMATION: For more information on negotiated rulemaking under the No Child Left Behind Act, see the Federal Register notices published on December 10, 2002 (67 FR 75828) and May 5, 2003 (68 FR 23631) or the Web site at http://www.oiep.bia.edu under “Negotiated Rulemaking.”

The Committee will meet to review public comments on six proposed rules that the Bureau of Indian Affairs published on February 25, 2004 at 69 FR 8752. The six rules cover: (1) Defining adequate yearly progress; (2) establishing separate geographic attendance areas; (3) establishing a formula for determining the minimum amount necessary to fund Bureau-funded schools; (4) establishing a system of direct funding and support of all Bureau-funded schools under the formula established in the Act; (5) establishing guidelines to ensure the Constitutional and civil rights of Indian students; (6) and establishing a method for administering grants to tribally-controlled schools.

There is no requirement for advance registration for members of the public who wish to attend and observe the Committee meeting. The public comment period for the six rules ended June 24, 2004, and we cannot accept public comments at this meeting.

The agenda for the meeting is as follows:

No Child Left Behind Negotiated Rulemaking

August 10-13, 2004

Albuquerque, New Mexico

Agenda

Purpose of Meeting: Review public comments on six proposed rules under the No Child Left Behind Act of 2001 and develop recommendations for final rules.

(Breaks at 10 a.m. and 3 p.m. each day and lunch at 12 p.m.-1:30 p.m.)

Tuesday, August 10, 2004

8:30 a.m.-9:30 a.m.

Opening Remarks

Introductions

Review Protocols

Review Agenda

9:45 a.m.-5 p.m.

Develop working plan for the week.

Review public comments.

Wednesday, August 11, 2004

8:30 a.m.-5 p.m.

Review public comments.

Thursday, August 12, 2004

8:30 a.m.-5 p.m.

Review public comments.

Friday, August 13, 2004

8:30 a.m.-3:30 p.m.

Review public comments 3:30 p.m.-5 p.m.

Closing remarks

Adjourn

Dated: July 16, 2004.
David W. Anderson,
Assistant Secretary—Indian Affairs.

[FR Doc. 04-16657 Filed 7-19-04; 10:58 am]

BILLING CODE 4310-6W-P